FEDERAL MARITIME COMMISSION

[Docket No. 16-14]

T. Parker Host, Inc. v. Kinder Morgan Liquids Terminals, LLC, et al.: Notice of Filing of Complaint and Assignment

Notice is given that a complaint has been filed with the Federal Maritime Commission (Commission) by T. Parker Host, Inc., hereinafter “Complainant,” against Kinder Morgan Liquids Terminals, LLC, Kinder Morgan Bulk Terminals, Inc., Kinder Morgan Services, LLC, Kinder Morgan Southeast Terminals, LLC, Kinder Morgan Virginia Liquids Terminals LLC, Kinder Morgan Materials Services, LLC, Kinder Morgan G.P., Inc., Kinder Morgan Operating L.P. “A”, Kinder Morgan Operating L.P. “C”, Kinder Morgan Operating L.P. “D”, Kinder Morgan Transmix Company LLC, Kinder Morgan Energy Partners, Nassau Terminals, LLC, Kinder Morgan Terminals, and Kinder Morgan, Inc., hereinafter “Respondents.” Complainant states that it is a business engaged in providing ship's agency services to vessel owners, operators and charterers. Complainant alleges that Respondents are operators of marine terminals.

Complainant alleges that by banning Complainant from entering on or coordinating port calls at all marine terminals owned or operated by Respondents, as well as informing Complainant's customers that as of July 1, 2016 Complainant has been banned from coordinating port calls at all marine terminals owned or operated by Respondents, Respondents have violated the Shipping Act, 46 U.S.C. 41106, which states that marine terminal operators “may not give any undue or unreasonable preference or advantage or impose any undue or unreasonable prejudice or disadvantage with respect to any person; or unreasonably refuse to deal or negotiate.”

Complainant requests that the Commission enter an order declaring the “Blacklist Notice” and/or Respondents' actions described in their complaint violate 46 U.S.C. 41106 and are unlawful and unenforceable, and further declaring that Complainant may continue to provide vessel agency services at Respondents' terminals as it currently does, and that Respondent be required to answer the charges made in the Complaint. Complainant also requests that after taking evidence and conducting a hearing, the Commission order Respondents to cease and desist from violation of the Shipping Act; to put in place lawful and reasonable practices to insure no continuing similar violations of the Shipping Act; to pay Complainant's reasonable attorney fees pursuant to 46 U.S.C. 41305(e); to pay monetary penalties for violating the Shipping Act pursuant to 46 U.S.C. 41107; and that the Commission make any further orders as it determines to be just and proper.

The full text of the complaint can be found in the Commission's Electronic Reading Room at www.fmc.gov/16-14.

This proceeding has been assigned to the Office of Administrative Law Judges. The initial decision of the presiding officer in this proceeding shall be issued by June 29, 2017, and the final decision of the Commission shall be issued by January 12, 2018.

Karen V. Gregory,
Secretary.

[FR Doc. 2016-16012 Filed 7-6-16; 8:45 am]

BILLING CODE 6731-AA-P